SECURITIES AND EXCHANGE COMMISSION

[File No. 500-1]

In the Matter of Vadda Energy Corp.; Order of Suspension of Trading

January 21, 2016.

It appears to the Securities and Exchange Commission that there is a lack of current and accurate information concerning the securities of Vadda Energy Corp. (CIK No. 1082492), a Florida corporation with its principal place of business listed as Flower Mound, Texas with stock quoted on OTC Link (previously `Pink Sheets') operated by OTC Markets Group Inc. (`OTC Link') under the ticker symbol VDDA, because it has not filed any periodic reports since it filed its registration statement on September 30, 2013. On October 9, 2015, a delinquency letter was sent by the Division of Corporation Finance to Vadda Energy requesting compliance with its periodic filing obligations, and Vadda Energy received the delinquency letter on October 15, 2015, but failed to cure its delinquencies.

The Commission is of the opinion that the public interest and the protection of investors require a suspension of trading in the securities of the above-listed company.

Therefore, it is ordered, pursuant to Section 12(k) of the Securities Exchange Act of 1934, that trading in the securities of the above-listed company is suspended for the period from 9:30 a.m. EST on January 21, 2016, through 11:59 p.m. EST on February 3, 2016.

By the Commission.
Jill M. Peterson,
Assistant Secretary.

[FR Doc. 2016-01431 Filed 1-21-16; 11:15 am]

BILLING CODE 8011-01-P